DEPARTMENT OF COMMERCE

Foreign-Trade Zones Board

[B-66-2015]

Proposed Foreign-Trade Zone—Hitchcock, Texas; Under Alternative Site Framework

An application has been submitted to the Foreign-Trade Zones (FTZ) Board by the City of Hitchcock to establish a foreign-trade zone at a site in Hitchcock, Texas, adjacent to the Houston Customs and Border Protection (CBP) port of entry, under the alternative site framework (ASF) adopted by the FTZ Board (15 CFR Sec. 400.2(c)). The ASF is an option for grantees for the establishment or reorganization of zones and can permit significantly greater flexibility in the designation of new “subzones” or “usage-driven” FTZ sites for operators/users located within a grantee's “service area” in the context of the FTZ Board's standard 2,000-acre activation limit for a zone project. The application was submitted pursuant to the provisions of the Foreign-Trade Zones Act, as amended (19 U.S.C. 81a-81u), and the regulations of the Board (15 CFR part 400). It was formally docketed on October 6, 2015. The applicant is authorized to make the proposal under Texas Statutes, Business and Commerce Code, Title 15, Chapter 681.

The proposed zone would be the sixth zone for the Houston CBP port of entry. The existing zones are as follows: FTZ 36, Galveston (Grantee: Board of Trustees of the Galveston Wharves, Board Order 129, May 4, 1978); FTZ 84, Houston (Grantee: Port of Houston Authority, Board Order 214, July 15, 1983); FTZ 171, Liberty County (Grantee: Liberty County Economic Development Corp., Board Order 501, January 4, 1991); FTZ 199, Texas City (Grantee: Texas City Foreign-Trade Zone Corp., Board Order 681, February 1, 1994); and, FTZ 265, Conroe (Grantee: City of Conroe, Board Order 1410, September 16, 2005).

The applicant's proposed service area under the ASF would be the City of Hitchcock, Texas. If approved, the applicant would be able to serve sites throughout the service area based on companies' needs for FTZ designation. The proposed service area is within and adjacent to the Houston CBP port of entry.

The proposed zone would include one “magnet” site: Proposed Site 1 (280.54 acres)—Blimp Base, 7529 Blimp Base Road, Hitchcock. The ASF allows for the possible exemption of one magnet site from the “sunset” time limits that generally apply to sites under the ASF, and the applicant proposes that Site 1 be so exempted.

The application states that there is a need for zone services in the Hitchcock area and that several firms have indicated an interest in using zone procedures. Specific production approvals are not being sought at this time. Such requests would be made to the FTZ Board on a case-by-case basis.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is December 14, 2015. Rebuttal comments in response to material submitted during the foregoing period may be submitted during the subsequent 15-day period to December 28, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Camille Evans at Camille.Evans@trade.gov or (202) 482-2350.

Dated: October 6, 2015.
Andrew McGilvray,
Executive Secretary.

[FR Doc. 2015-25981 Filed 10-9-15; 8:45 am]

BILLING CODE 3510-DS-P